DEPARTMENT OF ENERGY

Federal Energy Regulatory Commission

[Project No. 11810-004—Georgia Augusta Canal Project]

City of Augusta; Notice of Proposed Restricted Service List for a Programmatic Agreement for Managing Properties Included in or Eligible for Inclusion in the National Register of Historic Places

October 19, 2006.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Georgia State Historic Preservation Officer (Georgia SHPO), and the South Carolina State Historic Preservation Officer (South Carolina SHPO), pursuant to the Council's regulations, 36 CFR part 800, implementing section 106 of the National Historic Preservation Act, as amended, (16 U.S.C. 470 f), to prepare and execute a programmatic agreement for managing properties included in, or eligible for inclusion in, the National Register of Historic Places at the Augusta Canal Project No. 11810-004 (Georgia SHPO Reference Number HP981207-001). The Commission staff will also provide the Advisory Council on Historic Preservation an opportunity to comment.

The programmatic agreement, when executed by the Commission, Georgia SHPO, and the South Carolina SHPO would satisfy the Commission's section 106 responsibilities for all individual undertakings carried out in accordance with the license until the license expires or is terminated (36 CFR 800.13[e]). The Commission's responsibilities pursuant to section 106 for the Augusta Canal Project would be fulfilled through the programmatic agreement, which the Commission proposes to draft in consultation with certain parties listed below. The executed programmatic agreement would be incorporated into any Order issuing a license.

The city of Augusta, as licensee for Project No. 11810 is invited to participate in consultations to develop the programmatic agreement.

For purposes of commenting on the programmatic agreement, we propose to restrict the service list for the aforementioned project as follows:

Don Klima or Representative, Advisory Council on Historic Preservation, The Old Post Office Building, Suite 803, 1100 Pennsylvania Avenue, NW., Washington, DC 20004.

Rebekah Dobrasko or Representative, Review and Compliance Coordinator, Archives & History Center, 8301 Parklane Road, Columbia, SC 29223.

Mr. Max Hicks, Director or Representative, Utilities Department, 360 Bay Street, Suite 180, Augusta, GA 30901.

Elizabeth Shirk or Representative, Historic Preservation Division, Department of Natural Resources, 34 Peachtree Street, NW., Suite 1600, Atlanta, GA 30303.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

An original and 8 copies of any such motion must be filed with Magalie Salas, the Secretary of the Commission (888 First Street, NE., Washington, DC 20426) and must be served on each person whose name appears on the official service list. Please put the project name “Augusta Canal Project” and number “P-11810-004” on the front cover of any motion. If no such motions are filed, the restricted service list will be effective at the end of the 15 day period. Otherwise, a further notice will be issued ruling on any motion or motions filed within the 15 day period.

Magalie Salas,
Secretary.

[FR Doc. E6-18107 Filed 10-27-06; 8:45 am]

BILLING CODE 6717-01-P